ENVIRONMENTAL PROTECTION AGENCY

40 CFR Part 62

[AD-FRL-6603-4]

RIN 2060-ZA03

Federal Plan Requirements for Large Municipal Waste Combustors Constructed On or Before September 20, 1994

AGENCY: Environmental Protection Agency (EPA).

ACTION: Proposed rule.

SUMMARY: The EPA is proposing to take action on the “Federal Plan Requirements for Large Municipal Waste Combustors Constructed on or Before September 20, 1994.” This action would clarify the final compliance date, update the list of which large municipal waste combustor (MWC) units are affected by the Federal plan, and add a site-specific compliance schedule for one MWC unit.

On November 12, 1998, the EPA adopted the Federal plan to implement emission guidelines for large MWC units located in areas that are not covered by an approved and currently effective State plan. In a direct final rule published elsewhere in the issue of the Federal Register, we are updating the MWC Federal plan to identify large MWC units for which a State plan was approved and became effective since adoption of the Federal plan (November 12, 1998). We are also amending part 62 of title 40 of the Code of Federal Regulations (CFR) to reflect receipt of negative declarations from States that have certified that there are no large MWC units located in the State that would be subject to the Federal plan. We are also amending a table in the Federal plan to clarify that in all cases for all large MWC units, final compliance with all emission limits including the mercury and dioxins/furans emission limits must be achieved by December 19, 2000. Finally, we are amending a table to add a site-specific compliance schedule for one additional MWC unit. Today's action does not change the emission limits for large MWC units nor does it change the level of health protection that the Federal plan provides.

In the “Rules and Regulations” section of the Federal Register, we are amending part 62 as a direct final rule without prior proposal because we view the amendments as noncontroversial and anticipate no adverse comment. The amendments to the regulatory text appear in the direct final rule and are not published as proposed amendments with this proposed rule. We have explained our reasons for the amendments in the preamble to the direct final rule. If we receive no adverse comment on this rule, we will not take further action on this proposed rule. If we receive adverse comment, we will withdraw the direct final rule and it will not take effect. We will address all public comments in a subsequent final rule based on this proposed rule. We will not institute a second comment period on this action. Any parties interested in commenting must do so at this time.

DATES: Written comments must be received by June 23, 2000.

ADDRESSES: Comments should be submitted (in duplicate, if possible) to: Air and Radiation Docket and Information Center (MC-6102), Attn: Docket No. A-97-45/Category V-D, U.S. Environmental Protection Agency, Ariel Rios Building, 1200 Pennsylvania, NW, Washington, DC 20460. Comments may also be submitted electronically. For information on submitting comments electronically, see the SUPPLEMENTARY INFORMATION section. Address all comments and data for this proposal, whether on paper or in electronic form, such as through e-mail or disk, to Docket No. A-97-45/Category V-D.

FOR FURTHER INFORMATION CONTACT: For procedural and implementation information regarding these amendments, contact Ms. Julie Andresen McClintock at (919) 541-5339, Program Implementation and Review Group, Information Transfer and Program Integration Division (MD-12), U.S. Environmental Protection Agency, Research Triangle Park, North Carolina 27711. For State-specific information regarding the implementation of this Federal plan, contact the appropriate Regional Office (table 1) as shown in SUPPLEMENTARY INFORMATION.

SUPPLEMENTARY INFORMATION: This document concerns amendments to “Federal Plan Requirements for Large Municipal Waste Combustors Constructed on or Before September 20, 1994.” For further information, the detailed rationale, the administrative requirements, and the specific amendments being made, please see the information provided in the direct final action that is located in the “Rules and Regulations” section of this Federal Register publication. We are publishing the amendments as a direct final rule because we view the amendments as noncontroversial and anticipate no adverse comment.

Electronic Submittal of Comments. Comments may be submitted electronically. Send electronic submittals to: “A-and-R-Docket@epamail.epa.gov”. Submit electronic comments in American Standard Code for Information Interchange (ASCII) format. Avoid the use of special characters and any form of encryption. Electronic comments on these proposed emission guidelines may be filed online at any Federal Depository Library. Comments and data will also be accepted on disks in WordPerfect® version 5.1 or 6.1 file format (or ASCII file format). Address all comments and data for this action, whether on paper or in electronic form, such as through e-mail or disk, to Docket No. A-97-45/ Category V-D.

Regional Office Contacts. For information regarding the implementation of the MWC Federal plan, contact the appropriate EPA Regional Office as shown in table 1. This table has been updated since it was published on November 12, 1998 (63 FR 63193).

Table 1.—EPA Regional Contacts for Municipal Waste Combustors
Regional contact | Phone No. | Fax No.
John Courcier, U.S. EPA, Region I (Connecticut, Maine, Massachusetts, New Hampshire, Rhode Island, Vermont), 1 Congress Street, Suite 1100 (CAP), Boston, MA 02114-2023 | (617) 918-1659 | (617) 918-1505
Kirk Wieber, Argie Cirillo, Craig Flamm, U.S. EPA, Region II (New Jersey, New York, Puerto Rico, Virgin Islands) 290 Broadway, New York, NY 10007-1866 | (212) 637-3381 (212) 637-3203 (212) 637-4021 | (212) 637-3901
James B. Topsale, U.S. EPA/3AP22, Region III (Delaware, District of Columbia, Maryland, Pennsylvania, Virginia, West Virginia) 1650 Arch Street, Philadelphia, PA 19103-2029 | (215) 814-2190 | (215) 814-2114
Scott Davis, U.S. EPA/APTMD, Region IV (Alabama, Florida, Georgia, Kentucky, Mississippi, North Carolina, South Carolina, Tennessee) Sam Nunn Atlanta Federal Center, 61 Forsyth Street, SW, Atlanta, GA 30303 | (404) 562-9127 | (404) 562-9095
Douglas Aburano (MN), Mark Palermo (IL, IN, OH), Charles Hatten (MI, WI), U.S. EPA/AT18J, Region V (Illinois, Indiana, Michigan, Minnesota, Ohio, Wisconsin), 77 W. Jackson Blvd., Chicago, IL 60604 | (312) 353-6960 (312) 886-6082 (312) 886-6031 | (312) 886-5824
Mick Cote, U.S. EPA, Region VI (Arkansas, Louisiana, New Mexico, Oklahoma, Texas), 1445 Ross Ave., Suite 1200, Dallas, TX 75202-2733 | (214) 665-7219 | (214) 665-7263
Wayne Kaiser, U.S. EPA, Region VII (Iowa, Kansas, Missouri, Nebraska), 726 Minnesota Ave., Kansas City, KS 66101 | (913) 551-7603 | (913) 551-7065
Mike Owens, U.S. EPA, Region VIII (Colorado, Montana, North Dakota, South Dakota, Utah, Wyoming), 999 18th Street, Suite 500, Denver, CO 80202-2466 | (303) 312-6440 | (303) 312-6064
Patricia Bowlin, U.S. EPA/Air 4, Region IX (American Samoa, Arizona, California, Guam, Hawaii, Northern Mariana Islands, Nevada), 75 Hawthorne Street, San Francisco, CA 94105 | (415) 744-1188 | (415) 744-1076
Catherine Woo, U.S. EPA, Region X (Alaska, Idaho, Oregon, Washington), 1200 Sixth Ave., Seattle, WA 98101 | (206) 553-1814 | (206) 553-0110

Administrative Requirements

Regulatory Flexibility Act/Small Business Regulatory Enforcement Fairness Act of 1996

The Regulatory Flexibility Act (RFA) of 1980 (5 U.S.C. 601, et seq.), as amended by the Small Business Regulatory Enforcement Fairness Act of 1996 (SBREFA), generally requires EPA to prepare a regulatory flexibility analysis of any rule subject to notice and comment under the Administrative Procedure Act or any other statute unless EPA certifies that the rule will not have a significant impact on a substantial number of small entities. Small entities include small businesses, small organizations, and small governmental jurisdictions.

For purposes of assessing the impacts of this action on small entities, small entity is defined as: (1) A small business in this industry with a gross annual revenue less than $6 million; (2) a small governmental jurisdiction that is a government of a city, county, town school district or special district or a population of less than 50,000; and (3) a small organization that is any not-for-profit enterprise that is independently owned and operated and not dominant in its field.

This action is not subject to the requirements of the RFA as modified by SBREFA because it only makes minor technical amendments to some of the rule's requirements and it does not impose any additional requirements. During the 1995 MWC emission guidelines rulemaking, EPA estimated that few, if any, small entities would be affected by the promulgated guidelines and standards, and therefore, a regulatory flexibility analysis was not required (see 60 FR 65413). Therefore, pursuant to the provisions of 5 U.S.C. 605(b), EPA certifies that the amendments to the MWC Federal plan will not have a significant impact on a substantial number of small entities and a regulatory flexibility analysis is not required.

List of Subjects in 40 CFR Part 62

Environmental protection, Air pollution control, Reporting and recordkeeping requirements.

Dated: May 2, 2000.
Carol M. Browner,
Administrator.

[FR Doc. 00-11812 Filed 5-23-00; 8:45 am]

BILLING CODE 6560-50-P